DEPARTMENT OF TRANSPORTATION

Federal Aviation Administration

14 CFR Part 71

Docket No. FAA-2005-23157; Airspace Docket No. 05-ANM-15]

RIN 2120-AA66

Amendment to Class E Airspace; Kalispell, MT

AGENCY: Federal Aviation Administration (FAA), DOT.

ACTION: Final rule; technical amendment.

SUMMARY: This technical amendment corrects a final rule published in the Federal Register on July 24, 2006 (71 FR 41727), Docket No. FAA-2005-23157, Airspace Docket No. 05-ANM-15. In that rule, the reference to FAA Order 7400.9 was published as FAA Order 7400.9O. The correct reference is FAA Order 7400.9P. Also, the corresponding date that refers to the date the Order was signed was omitted. The final rule should state “* * * dated September 1, 2006 * * *” (prior to the effective date), instead of “* * * updated yearly * * *” This technical amendment corrects those errors.

EFFECTIVE DATE: 0901 UTC, April 3, 2007. The Director of the Federal Register approves this incorporation by reference action under 1 CFR part 51, subject to the annual revision of FAA Order 7400.9 and publication of conforming amendments.

FOR FURTHER INFORMATION CONTACT: Tameka Bentley, Airspace and Rules, Office of System Operations Airspace and AIM, Federal Aviation Administration, 800 Independence Avenue, SW., Washington, DC 20591; telephone: (202) 267-8783.

SUPPLEMENTARY INFORMATION:

History

On July 24, 2006, a final rule was published in the Federal Register, Docket No. FAA-2005-23157, Airspace Docket No. 05-ANM-15 that amended Title 14 Code of Federal Regulations part 71 by amending Class E Airspace; Kalispell, MT (71 FR 41727). In that rule, the reference to FAA Order 7400.9 was published as FAA Order 7400.9O. The correct reference is FAA Order 7400.9P. In addition, the corresponding date that refers to the date the Order was signed had been omitted. The final rule should state “* * * dated September 1, 2006 * * *” (prior to the effective date), instead of “* * * updated yearly * * *”

Amendment to Final Rule

Accordingly, pursuant to the authority delegated to me, the reference to FAA Order 7400.9 for Airspace Docket No. FAA-2005-23157, Airspace Docket No. 05-ANM-15, as published in the Federal Register on July 24, 2006 (71 FR 41727), is corrected as follows:

On page 41727, column 2, (from the bottom, counting up) line 3, and column 3, (from the bottom, counting up) lines 7, and 9, amend the language to read:

§ 71.1 [Amended]

* * * * *

“FAA Order 7400.9P” instead of “FAA Order 7400.9O”

Remove “* * * updated yearly * * *” and insert “* * * dated September 1, 2006 * * *”

* * * * *

Issued in Washington, DC, March 23, 2007.
Edith V. Parish,
Manager, Airspace and Rules.

[FR Doc. E7-6098 Filed 4-2-07; 8:45 am]

BILLING CODE 4910-13-P